CHEMICAL SAFETY AND HAZARD INVESTIGATION BOARD

Sunshine Act Meeting

The United States Chemical Safety and Hazard Investigation Board announces that it will convene a Public Meeting beginning at 10 a.m. local time on April 6, 2000, at the Defense Nuclear Facilities Safety Board, 625 Indiana Avenue, NW, Washington, DC, Third Floor. Topics to be discussed at the meeting are:

1. CSB Investigations update of the Morton, Tosco, and Sonat I cases

2. Review of CSB recommendations

3. Chemical incident selection criteria update

4. Hiring plan update

5. Review of contracting matters

6. Data base study update

7. Board member update

8. Future activities (Senate hearing, strategic planning, public meeting on the Morton case, future Board meeting dates)

The meeting will be open to the public. The Defense Nuclear Facilities Safety Board is a secure federal building and photo identification may be required for public admission. For more information, please contact the Chemical Safety and Hazard Investigation Board's Office of External Relations, (202) 261-7600, or visit our website at: www.csb.gov.

Christopher W. Warner,
General Counsel.

[FR Doc. 00-7942 Filed 3-27-00; 4:33 pm]

BILLING CODE 6350-01-P